ENVIRONMENTAL PROTECTION AGENCY

[FRL-6732-1]

Notice of Availability and Request for Comment on Draft Plan of Action for Reducing, Mitigating, and Controlling Hypoxia in the Northern Gulf of Mexico

AGENCY: Environmental Protection Agency (EPA).

ACTION: Notice of Availability and Request for Public Comment.

SUMMARY: The Environmental Protection Agency (EPA), on behalf of the Mississippi River/Gulf of Mexico Watershed Nutrient Task Force (Task Force), invites public comments on the draft Action Plan for Reducing, Mitigating, and Controlling Hypoxia in the Northern Gulf of Mexico (Action Plan) as required by section 604(b) of Public Law 105-383, the Harmful Algal Bloom and Hypoxia Research and Control Act of 1998, Title VI, enacted on November 13, 1998. The Task Force is comprised of senior policymakers from eight Federal agencies, nine States, and two Tribal governments. The Action Plan is the result of several years of study and discussion by the members of the Task Force and many interested officials and citizens who participated in their deliberations.

DATES: Comments must be received by September 11, 2000. All comments received during the formal comment period will be reviewed and delivered to the Mississippi River/Gulf of Mexico Watershed Nutrient Task Force for their consideration prior to the development of the final Action Plan. Late comments will be considered as time allows. Submission of comments prior to the end of the comment period is highly encouraged.

ADDRESSES: Submit written comments to: Mississippi River/Gulf of Mexico Action Plan (4503F), c/o U.S. Environmental Protection Agency, 1200 Pennsylvania Avenue NW, Washington, DC 20460. For information on electronic filing of comments, see “Additional Comment Information” in SUPPLEMENTARY INFORMATION.

FOR FURTHER INFORMATION CONTACT: Mr. John Wilson, U.S. EPA, Assessment and Watershed Protection Division (AWPD) (4503F), 1200 Pennsylvania Avenue NW, Washington, D.C. 20460, telephone (202) 260-7878; Internet: wilson.john@epa.gov. The draft Action Plan below, as well as related information, may be reached via the EPA website: at <http://www.epa.gov/msbasin/>.

SUPPLEMENTARY INFORMATION: Additional Comment Information: Comments may also be submitted electronically. Comments should be sent to the following Internet address: ms-river@epa.gov. Electronic comments must be submitted as an ASCII or WordPerfect file avoiding the use of special characters and any form on encryption.

The Task Force first met on December 4, 1997 and has had five meetings since that time in various locations within the Mississippi/Atchafalaya river basin. At its November 18, 1999 meeting in Chicago, IL, the Task Force expressed general support for a previous draft of this Action Plan, but requested staff development of additional information on quantitative goals for the reduction of hypoxia in the Gulf of Mexico. At its June 15 and 16 meeting in St. Louis, MO, the Task Force had a spirited discussion about alternative goals and directed that several alternatives be published for public comment. Accordingly, the Task Force is particularly interested in comment on the following:

1. Which of the “Coastal Goals” should be in the final Action Plan, and if not any of these, please suggest alternatives? Are the “Within Basin” and “Quality of Life” Goals appropriate or how should they be modified?;

2. Are the Implementation Actions listed and the dates associated with them appropriate?;

3. Provide examples of any effective nutrient management State/Tribal program successes or challenges which can be highlighted in the final Action Plan; and

4. Are the listings of Federal programs in the section “Funding the National Effort” complete?

Draft Action Plan for Reducing, Mitigating, and Controlling Hypoxia in the Northern Gulf of Mexico

Purpose and Background
Background on the Issue
Long-Term Goals
Implementation Actions
Key Roles and Responsibilities
The Framework and Approach for Reducing Hypoxia in the Gulf of Mexico
Adaptive Management: Action, Monitoring, and Research
Funding the National Effort: Clean Rivers/Clean Gulf Budget Initiative
Indicators of Success/Progress

Purpose and Background

This Action Plan describes a national strategy to reduce the frequency, duration, size and degree of oxygen depletion of the hypoxic zone of the northern Gulf of Mexico (the Gulf). The Plan is the result of several years of study and discussion by the members of the Mississippi River/Gulf of Mexico Watershed Nutrient Task Force (the Task Force) and many concerned officials and citizens who participated in their deliberations. This Plan is submitted in accordance with The Harmful Algal Bloom and Hypoxia Research and Control Act of 1998, Title VI of P.L. 105-383, section 604(b), enacted on November 13, 1998.

This Action Plan is informed by the findings of the Committee on Environment and Natural Resources (CENR) Integrated Assessment of Hypoxia in the Northern Gulf of Mexico along with many comments submitted about it and the six topic reports on which it is based. In addition, the Task Force considered several other significant reports, including the Gulf of Mexico Hypoxia: Land and Sea Interactions (Council for Agricultural Science and Technology, 1999), The Role of the Mississippi River in Gulf of Mexico Hypoxia (University of Alabama-Carey et al. 1999; for the Fertilizer Institute), and Clean Coastal Waters: Understanding and Reducing the Effects of Nutrient Pollution (Committee on the Causes and Management of Eutrophication, National Research Council, 2000). The Task Force members also drew on their many years of experience in agricultural and environmental policy in formulating this Action Plan. The Task Force also listened carefully to dozens of statements by members of the public during its six public meetings.

Improved coordination and, in most cases, expansion of the excellent private and government supported efforts to reduce losses of nutrients are central to the success of this strategy. Throughout the basin much work is underway to increase the efficiency of farming practices and restore wetlands and riparian buffers. In addition, industry and local governments are beginning to undertake additional efforts to reduce nutrient loadings from point sources and urban runoff. Implementation, and expansion, of those efforts will continue to deliver improvements to water quality throughout the basin and in the Gulf.

The work of the Task Force has provided a basin wide context for the continued pursuit of both incentive-based, voluntary efforts for nonpoint sources and regulatory controls for point sources. Furthermore, research and monitoring that supports the proposed remedies and goals in this plan, as well as resolution of uncertainties identified in the CENR Integrated Assessment and elsewhere, are identified as priorities for future action.

The Action Plan proposes an implementation approach to carry out an initial set of ten priority actions and, subsequently, make adjustments to that initial approach as we evaluate results. This plan describes an adaptive approach, based on implementation, monitoring and research to address known problems, clarify scientific uncertainties, and evaluate the effectiveness of efforts to reduce hypoxia. Because of the importance of enhancing these efforts by increasing support for necessary incentives, monitoring and research, this plan also identifies additional resource needs.

Background on the Issue

Scientific investigations document a zone on the Gulf of Mexico's Texas-Louisiana Shelf with seasonally low oxygen levels (<2mg/l). Between 1993 and 1999 the zone of mid-summer bottom-water hypoxia in the northern Gulf of Mexico has been estimated to be larger than 4,000 square miles. In 1999, it was 8,000 square miles, about the size of the State of New Jersey. The hypoxic zone is a result of complicated interactions involving excessive nutrients, primarily nitrogen, carried to the Gulf by the Mississippi and Atchafalaya Rivers; physical changes in the basin, such as channelization and loss of natural wetlands and vegetation along the banks as well as wetland conversions throughout the basin; and the stratification in the waters of the northern Gulf caused by the interaction of fresh river water and the saltwater of the Gulf.

Nutrients, such as nitrogen and phosphorus, are essential for healthy marine and freshwater environments. However, an overabundance can trigger excessive algal growth (or eutrophication) which can result in several possible ecosystem responses. In the near shore Gulf, excessive algal growth, driven by excess nitrogen, results primarily in a decrease in dissolved oxygen in the bottom water, and the corresponding loss of aquatic (water column and benthic) habitat. Mobile organisms leave the hypoxic zone and those that cannot leave, die or are weakened depending on how low the oxygen level gets and for how long. In the Gulf, fish, shrimp, crabs, zooplankton, and other important fish prey are significantly less abundant in bottom waters in areas that experience bottom waters hypoxia.

Additionally, water quality throughout the Mississippi and Atchafalaya River basin (the Basin) has been degraded by excess nutrients. Most States in the Basin have significant river miles impaired by high nutrient concentrations, primarily phosphorous, meaning that they are not fully supporting aquatic life uses. In some areas groundwater supplies are threatened by excess nitrate, which can be a human health hazard.

A significant portion of the nutrients entering the Gulf from the Mississippi River come from human activities: discharges from sewage treatment and industrial wastewater treatment plants and stormwater runoff from city streets and farms. Nutrients from automobile exhaust and fossil fueled power plants also enter the waterways and the Gulf through air deposition to the vast land area drained by the Mississippi River and its tributaries. About 90% of the nitrate load to the Gulf comes from non-point sources. About 56% of the load enters the Mississippi River above the Ohio River. The Ohio basin adds 34%. High nitrogen loads come from basins receiving wastewater discharges and draining agricultural lands in Iowa, Illinois, Indiana, southern Minnesota, and Ohio.

The primary approaches to reduce hypoxia in the Gulf of Mexico appear to be to: 1) reduce nitrogen loads from watersheds to streams and rivers in the Basin and 2) restore and enhance denitrification and nitrogen retention within the Basin. Current model simulations suggest that a 40% reduction in total nitrogen flux to the Gulf is necessary to return to average loads comparable to those during 1955-70. Model simulations further suggest that, short of the 40% reduction necessary to return to levels in the past mid-century, nutrient load reductions of about 20-30% would result in a 15-50% increase in bottom water dissolved oxygen concentrations. Because any oxygen increase above the 2 mg/l threshold will have a significant positive effects on marine life, even small reductions in nitrogen loads are desirable. While the primary focus of this strategy is on reducing nitrogen loads to the northern Gulf, many of the actions proposed through this plan will also achieve basin-wide improvements in surface-water quality, by reducing phosphorous as well. Likewise, actions taken to address local water quality problems in the basin will frequently also contribute to reductions in nitrogen loadings to the Gulf.

Long-Term Goals

The goals of this strategy are three-fold:

(1) Coastal Goal—This goal will be re-evaluated every five years to take into account advances in information and the feasibility in attaining the goal based on progress in implementing this Action Plan.

(Note to commentors: Three options for the coastal goal are listed to specifically solicit public comments on the choices between different quantitative and qualitative alternatives)

1.A—to reduce, by 2010, annual discharges of nitrogen to the Gulf from the Mississippi/Atchafalaya Rivers by 350,000 to 650,000 metric tons—equivalent to a 20 to 40% reduction in the annual average loading during the period 1980-1996. This reduction should be pursued through a combination of actions to curb direct discharges of nitrogen bearing domestic and industrial wastewater, to reduce losses of excess nutrients from agricultural operations, and by intercepting and processing nutrients in riparian buffers and constructed or restored wetlands.

1.B—to reduce the 5-year running average areal extent of Gulf of Mexico hypoxia to less than 5,000 square kilometers by the year 2010. The best current science says that to make significant progress toward that goal, average nitrogen loads to the Gulf should be reduced by 30% from the 1980-96 average. Identification of specific actions within the basin, to achieve that 30% nitrogen load reduction, should be developed through the implementation actions outlined in this Action Plan.

1.C—to pursue practical, cost-effective efforts by all states and tribes within the basin and all categories of sources to protect the ecological and fisheries resources of the northern Gulf of Mexico by reducing nutrient over-enrichment.

(2) Within Basin Goal—to restore and protect the waters of the 31 States and tribal lands within the Mississippi/Atchafalaya River Basin and their aquatic ecosystems in order to protect public health and aquatic life, as well as reduce negative impacts on downstream waters.

(3) Quality of Life Goal—to improve the communities and economic conditions across the Mississippi/Atchafalaya River Basin, in particular the agriculture, fisheries and recreation sectors, through improved public and private land management and a cooperative, incentive based approach.

Implementation Actions

The guiding principle of this plan is that in establishing priorities for watershed restoration, States, Tribes, and Federal Agencies within the Mississippi and Atchafalaya River Basin consider the potential for benefits to the Gulf of Mexico, direct current and increased resources to cost-effective, practical, actions that will reduce discharges and run-off of nutrients in the Mississippi and Atchafalaya River Basin, and give priority to watersheds delivering the most nitrogen to the Gulf as well as being likely to have local benefits.

This Action Plan assumes continuation of the Mississippi River/Gulf of Mexico Watershed Nutrient Task Force with invitations for participation by additional States and Tribes in the Basin. The Plan also assumes that Federal, State, and Tribal governments will provide involved agencies with any new authorities needed to implement proposed actions and with additional appropriations needed to accomplish tasks not presently funded within agency budgets. The Task Force will serve as the national forum to encourage and coordinate implementation, including assessments, research, monitoring and modeling, and also adaptive management, including evaluation of progress, updates of goals and strategies and solicitation of continued financial support, to achieve the goals described above.

The following short term actions and time-frames are proposed to achieve long-term goals outlined above:

#1 By Summer, 2001: the Task Force will establish sub-basin committees to coordinate implementation of the Action Plan by major sub-basin, including coordination among smaller watersheds and States in each of those sub-basins;

#2 By Fall, 2001, States, Tribes and Federal Agencies within the Mississippi and Atchafalaya River Basin, using available data and tools, will develop strategies for nutrient reduction in the sub-basins with greatest contributions to Gulf hypoxia. These strategies will include setting reduction targets in metric tons of nitrogen, establishing a baseline of existing efforts for nutrient management, identifying opportunities to restore flood plain wetlands (including restoration of river inflows) along and adjacent to the Mississippi River, detailing needs for additional assistance to meet their goals, and promoting additional funding;

#3 By Fall, 2001, Clean Water Act permitting authorities within the Mississippi and Atchafalaya River Basin will identify point source dischargers with significant discharges of nutrients and undertake steps to reduce those loadings, consistent with action 2, above;

#4 By Spring 2002, States and Tribes within the Mississippi and Atchafalaya River Basin with support from Federal agencies, will increase assistance to landowners for voluntary actions to restore, enhance, or create wetlands and vegetative or forested buffers along rivers and streams within priority watersheds consistent with action 2, above;

#5 By Fall 2002, States and Tribes within the Mississippi and Atchafalaya River Basin, with support from Federal agencies, will increase assistance to agricultural producers, other landowners, and businesses for the voluntary implementation of best management practices (BMPs), which are effective in addressing loss of nitrogen to waterbodies, consistent with action 2, above;

#6 By Fall, 2001, The Task Force will propose an integrated Gulf of Mexico Hypoxia Research Strategy to coordinate and promoting funding for necessary research and modeling efforts to reduce uncertainties regarding the sources, effects (including economic effects in the Gulf as well as the basin), and geochemical processes for hypoxia in the Gulf;

#7 By Spring, 2002, Coastal States, Tribes and relevant Federal Agencies will greatly expand the long-term monitoring program for the hypoxic zone, including greater temporal and spatial data collection, measurements of macro-nutrient and micro-nutrient concentrations and hypoxia as well as measures of the biochemical processes that regulate the inputs, fate, and distribution of nutrients and organic material;

#8 By Spring 2002, States, Tribes and Federal Agencies within the Mississippi and Atchafalaya River Basin will expand the existing monitoring efforts within the Basin to provide both a coarse resolution assessment of the nutrient contribution of various sub-basins and a high resolution modeling technique in these smaller watersheds to identify additional management actions to help mitigate nitrogen losses to the Gulf, and phosphorous loadings to local waters, based on the interim guidance established by the National Water Quality Monitoring Council; and,

#9 By Fall 2003, The U.S. Army Corps of Engineers (COE), in cooperation with States, Tribes and other Federal Agencies, will, when authorized and funded by the Congress, complete a reconnaissance level assessment of potential nutrient reduction actions that could be achieved by modifying COE projects or project operations.

#10 By Fall 2005 and every five years thereafter, the Task Force will assess the nutrient load reductions achieved and the response of the hypoxic zone, water quality throughout the Basin, and economic and social effects. Based on this assessment, the Task Force will determine appropriate actions to continue to implement this strategy or, if necessary, revise the strategy.

Key Roles and Responsibilities

These implementation actions will require contributions and collaboration from many different individuals and organizations. Briefly, some of the most important roles and responsibilities include:

Private Citizens and Businesses

• Landowners (homeowners and renters, farmers, ranchers), businesses and business owners can significantly reduce the impacts of their activities on water quality when provided with information about environmental problems, practical and cost-effective solutions, technical assistance, and, where necessary, financial assistance. Under this strategy, Federal, State, Tribal and local agencies will use education, assistance and other incentives to encourage broader and more effective use of pollution prevention techniques, BMPs and participation in restoration programs by landowners, businesses and households.

States and Tribes

• States and Tribes have important water quality protection responsibilities under their own laws and as key implementors or partners in programs established pursuant to Federal legislation. Specifically, States and Tribes will assess the effectiveness of their nutrient reduction programs particularly to ensure that the goals for nitrogen reduction are met and that each State/Tribe is making appropriate contributions to the overall basin reduction goals.

• States and Tribes will develop Total Maximum Daily Loads (TMDLs) for those waters identified as priorities through their Continuing Planning Process and by listing on the 303(d) list in accordance with their respective State priority lists. Where possible, States and Tribes are encouraged to give priority for developing TMDLs to those watersheds identified as significant sources of nitrogen to downstream waters that flow to the Basin.

• States and Tribes will develop numeric water quality standards for nutrients based on enhanced monitoring and research information linking nutrient loadings to water quality in the Basin.

• States and Tribes should assess water quality impairments in accordance with their watershed strategies based on the adopted standards for nutrients.

States, Tribes, and Federal Agencies

• The U.S. Army Corps of Engineers (COE), in conjunction with the U.S. Environmental Protection Agency (EPA), the National Oceanic and Atmospheric Administration (NOAA), U.S. Department of Interior, U.S. Department of Agriculture (USDA) and the State of Louisiana, will target the Coastal Wetlands Planning, Protection, and Restoration Act and other pertinent program resources for diversions and other related projects that further the goals of restoring coastal wetlands, removing nitrogen, and protecting near coastal water quality from excessive nutrient enrichment. The Corps, working with the Upper Mississippi River Basin States and Tribes through use of Navigation and Environmental Management or Restoration Programs, will promote pool management and other actions in the upper Mississippi River Basin targeted at enhancement of nitrogen removal during critical periods of the year.

• States, Tribes, USDA and EPA will target programs and State Revolving Loan Funds to improve municipal stormwater programs; promote the use, where appropriate, of centralized sewage treatment and Biological Nitrogen Removal in municipal sewage treatment plants; and improve the application, operation and maintenance of on-site systems.

• States, Tribes and EPA will target Clean Water Act Section 319 funds to improve nitrogen management and wetland and riparian buffer restoration and creation for water quality benefits.

• States and Tribes, in conjunction with the U.S. Geological Survey (USGS), USDA, EPA, COE and the National Oceanic and Atmospheric Administration (NOAA), will implement a coordinated monitoring program for the Basin. USDA, COE and EPA will have a leadership role in establishing the scope and plan for periodic inventory of programmatic and economic indicators. NOAA will have a leadership role in the monitoring and model development related to oceanographic processes and impacts of hypoxia. USGS will have a leadership role in monitoring of water-quality conditions and in development of models and related methods to evaluate water-quality trends and the effectiveness of management actions within the Basin. The States and Tribes will provide leadership in coordination of efforts within and along State and Tribal boundaries in order to insure that monitoring and model development are consistent among the various State and Federal programs.

• In cooperation with federal agencies, States will document and monitor land use changes to identify priority areas of likely nitrogen loss to streams. States will work with the USDA to complete soil maps for all agricultural areas in the basin and evaluate in more detail the soil nutrient loading and cycling in critical areas.

• NOAA, EPA, COE and the State of Louisiana, will develop and implement a comprehensive monitoring and assessment strategy for the northern Gulf hypoxic region based on the critical needs identified in the CENR assessment.

• EPA, in cooperation with other federal agencies, States, Tribes, and the National Water Quality Monitoring Council, will standardize monitoring and reporting of nutrient loading by point source dischargers within the Mississippi and Atchafalaya River Basin.

• USGS, USDA, EPA, COE and NOAA, in concert with other Federal and State agencies and non-government organizations, will pursue research to reduce the uncertainties in the scientific assessment, to improve monitoring and modeling capabilities, and to improve BMPs for reducing nutrient losses from nonpoint sources.

• State, Tribal and Federal agencies will increase the coordination of their activities as they affect the Basin using mechanisms such as the Clean Water Action Plan, State Technical Committees, and State/Tribe-led stakeholder input fora. Agencies will be responsive to locally-led conservation activities.

• EPA, NOAA, States and Tribes will develop water quality criteria for nutrients, including criteria for nitrogen that are tailored to the coastal ecoregions of the Northern Gulf of Mexico and near-coastal marine waters of the Gulf hypoxic region.

Federal Agencies

• The Federal agencies will direct the Environmental Quality Incentive Program (EQIP), the Conservation Reserve Program (CRP), the Wetlands Reserve Program (WRP), Agricultural Extension Education Programs, Clean Water Act Section 319 resources, and other Environmental Restoration Programs into state-targeted watersheds to: establish stream-side buffers; increase producer participation and acres under the CRP and WRP in areas that will protect surface waters and restore natural nutrient cycling in aquatic systems; increase the number of acres in conservation tillage; increase the number of producers and acres under voluntary nutrient management plans; and improve animal waste management practices.

• EPA will provide technical, financial and institutional support to assist States and Tribes to upgrade their nonpoint source programs and will provide grants to be passed-through to landowners as incentives for improved practices. NOAA and EPA will support targeted implementation of Louisiana's Coastal Nonpoint Source program as provided in sec. 6217 of CZARA.

• EPA will approve prioritization and listing of impaired waters (Lists), including impaired coastal waters as appropriate, in accordance with Section 303(d) of the Clean Water Act. Where EPA determines that Lists or TMDLs do not satisfy requirements of the CWA, EPA is required to issue Lists and develop TMDLs.

The Framework and Approach for Reducing Hypoxia in the Gulf of Mexico

There are no simple solutions that will reduce hypoxia in the Gulf. An optimal approach would take advantage of the full range of possible actions to reduce nutrient loads and increase nitrogen retention and denitrification within a framework that encourages adaptive management and accomplishes this in a cost effective manner. While reduction of nitrogen is the principal focus of this framework, many of the actions needed to reduce nitrogen loads will complement and enhance existing efforts to restore water quality throughout the basin. With additional assistance, this national effort to reduce Gulf hypoxia will be implemented within the existing array of state and federal laws, programs and private initiatives.

The tools provided by the Clean Water Act, and the programs established under the last several Farm Bills and Water Resources Development Acts, are critical to implementing this plan. Because nutrient over-enrichment is a widespread problem, these existing national programs and initiatives incorporate specific elements intended to reduce nutrient loadings to surface waters and to foster restoration of natural habitats capable of removing nutrients from waters. They include:

• encouraging nonpoint source pollutant reductions under the Clean Water Act, the Farm Bill, and State cost-sharing programs;

• implementation of the Environmental Quality Incentives Program (EQIP) to assist grain and livestock producers in reducing excessive nutrients' movement to water resources;

• implementation of the Conservation Reserve Program, Wetlands Reserve Program, Corps of Engineers Environmental Restoration Programs, and Agricultural Extension Education Programs to promote restoration and enhancement of natural systems for nitrogen retention and denitrification;

• increasing emphasis on nutrient management through State and Tribal efforts to implement watershed based approaches to water quality management, including monitoring and assessing waters, adoption of water quality standards, including nutrient criteria, developing total maximum daily loads (TMDLs), and implementing point source controls through the National Pollutant Discharge Elimination System (NPDES);

• promoting public-private partnerships to restore buffers;

• implementation of Louisiana's Coastal Nonpoint Pollution Control Programs under the Coastal Zone Act Reauthorization Act in the lower Mississippi and Atchafalaya Rivers;

• supporting actions by non-water quality State and Tribal agencies, private landowners, the agricultural and other industries to reduce nitrogen loadings to the basin; and,

• providing voluntary incentives for nitrogen reductions from point and nonpoint sources.

This plan recognizes and builds upon these requirements, programs and initiatives. A successful strategy to restore water quality in the Gulf of Mexico will almost certainly benefit water quality throughout the Mississippi and Atchafalaya River Basin.

Adaptive Management: Action, Monitoring and Research

The complex nature of nutrient cycling and transport within the Mississippi and Atchafalaya River basins and Gulf of Mexico make it difficult to predict specific improvements in water quality that will occur both in the Gulf as well as the entire Mississippi River basin for a given reduction in nutrient loads. Further, it is clear that environmental responses to management actions in the basin likely will be slow, possibly requiring decades to demonstrate that remedial actions have helped the recovery of oxygen concentrations in the Gulf and have improved water quality in the Basin. Finally, while the current understanding of the causes and consequences of Gulf of Mexico hypoxia is drawn from a massive amount of direct and indirect evidence collected and reported over many years of scientific inquiry, significant uncertainties remain. Further monitoring, modeling and research are needed to reduce those uncertainties in future assessments and to aid decision making in an adaptive management framework. A comprehensive program of planning, monitoring, interpretation, modeling, and research to facilitate improvement in scientific knowledge and adjustments in management practices should be coupled to the initial nutrient management strategies identified in this plan. This adaptive management scheme involves continual feedback between interpretation of new information and improved management actions and is the key to targeting BMPs within watersheds where they will actually be effective.

This adaptive approach should consist of the following components:

• Action: implementing the actions identified in this plan including developing sub-basin strategies, initiating additional monitoring and research, and pursuing a national commitment to supporting actions to reduce and mitigate the impacts of hypoxia in the Gulf.

• Education: increasing the stakeholder awareness of the causes and effects of hypoxia, the actions underway or planned to reduce those effects, and the role of state, local and tribal governments as well as individual landowners, citizens and businesses to contribute to the solution. Make this information available through electronic media and sharing the latest news on successful approaches and reductions.

• Monitoring: increasing the scale and frequency of monitoring of both the extent of the hypoxic zone and the sources and conditions of waters throughout the basin.

• Research and Modeling: reducing the uncertainties of the effects of the hypoxic zone, the sources of contributing factors and the biochemical processes that underlie the causes and effects of the hypoxic zone, and the social and economic impacts of various control strategies;

• Evaluation and Adaptation: reviewing periodically the monitoring and research results to revise this plan, through the Mississippi River/Gulf of Mexico Watershed Nutrient Task Force.

This plan seeks to take maximum advantage of water quality improvement efforts underway or planned nationally and proposes a mechanism to better focus those efforts. Water resources within the Basin—rivers, wetlands, lakes, and streams—and the Gulf of Mexico are expected to benefit from these efforts. Many specific water quality improvement actions can be undertaken by industries, municipalities, farmers, ranchers, and other citizens. These actions can raise property values, conserve soil, increase productivity, reduce input costs and provide habitat for game and fish and revenue from hunting, fishing and other recreation. Because of the economic benefits of these measures to the landowners and other stakeholders who undertake them, education and voluntary, incentive-based, approaches can be effective in promoting such actions, in particular best management practices (BMPs).

Funding the National Effort: Clean Rivers/Clean Gulf Budget Initiative

This action plan proposes a Clean Rivers/Clean Gulf budget initiative to restore the waters of the Mississippi/Atchafalaya River Basins and the hypoxic zone in the Gulf of Mexico. This initiative would provide flexible funding to support implementation of the most practical, appropriate, and economical, mix of strategies as determined by implementation action #2 above, to address the linked problems of inland water quality in the Mississippi/Atchafalaya River Basins and Gulf of Mexico Hypoxic Zone.

Basin-wide Goal: State/Tribal-led Strategies Within a National Commitment

There are multiple sources of nitrogen contributing to nutrient over-enrichment in the Gulf of Mexico, including about 11 percent from municipal and industrial point sources, 65 percent from agricultural nonpoint sources, and about 24 percent from other nonpoint sources; the mix of these sources varies considerably within the huge watershed of the Mississippi/Atchafalaya Rivers. Therefore, this initiative proposes an innovative Omnibus Mississippi-Gulf Restoration Fund, which would allow for resources to be allocated initially based on an estimate of the relative proportion of the need and cost for remedial measures basin-wide to be determined by implementation action #2. The allocation would be re-visited periodically based on the actual distribution of actions taken under State strategies, and thus funds committed. The land area to be “treated” (⅔ of the 48 contiguous states), number of States involved (31), number of tribes involved (77), and resources damaged and at risk justify an investment in keeping with the scale of investments planned or undertaken in South Florida and the California Bay Delta, and greater than those pursued in the Chesapeake Bay and Great Lakes.

States and Tribes, will, on a basin-by-basin basis select the most appropriate, readily implemented approaches, building on existing water quality and habitat improvement programs. State strategies will draw from a broad menu of reasonable and cost-effective responses to prevent nutrients from reaching rivers and streams to be carried to the Gulf and to restore the natural capacity of the ecosystem to process nutrients into harmless substances. Important improvements in water quality in the lakes and rivers used and enjoyed regionally, as well as significant reduction of Gulf of Mexico hypoxia will result. States currently contribute significant resources to match (and overmatch) many Federal programs and their contributions would increase along with further Federal investment.

The Federal Government will provide resources to support pollution control and habitat restoration through several new and existing programs. The Federal interest in this effort is clear: interstate waters, producing economically valuable goods and services and representing a key component of our national patrimony, are damaged and at further risk. Large-scale, Federally-funded navigation and flood control projects throughout the basin contribute to the problem, as well as smaller scale state and local contributions from wastewater treatment systems and farming practices. Often these actions were taken without adequate consideration of local or down-river impacts. Many of the investments proposed will have the further national policy benefit of supporting the farm economy at a time of severe stress.

Mississippi-Gulf Omnibus Restoration Fund

Elements of the Restoration Fund are:

Wetlands Restoration Fund: Restore Wetlands

Restoration/creation of wetlands to intercept and bioremediate nutrients from agricultural run-off; acquisition of land and/or easements and construction and operation of wetland treatment systems. Action will also produce flood damage reduction benefits and habitat benefits.

Principal Programs

USDA: Wetlands Reserve Program, Conservation Reserve Program, NRCS Technical Assistance, Extension Education

USFWS: North American Waterfowl and Wetlands Program, Partners for Fish and Wildlife Program, National Wildlife Refuge System

USEPA: Sec. 319 Grant program, Clean Water State Revolving Loan Fund (CWSRF)

NOAA: Coastal Wetland Restoration Projects

USACE: Section 206 WRDA ’96, Aquatic Ecosystem Restoration; Section 204 WRDA ’92 Use of dredged material to protect, restore, and create aquatic and ecologically related habitats; Section 1135, WRDA ’86, Project Modifications for Improvement of the Environment; Specific General Investigations to address wetland restoration

Offset: Reductions in Crop Insurance Payments for Farming in Flood Prone Areas

Agricultural Nutrient Efficiency Fund: Use Management Practices for Nutrient Loading Reductions

Incentive payments and technical assistance to increase agronomic efficiency and improve management practices; could potentially provide payments in lieu of insurance fertilizer use. Action will also provide farm income security to participants.

Principal Programs

USDA: CRP, EQIP, Extension Education

USEPA: 319 Grants, CWSRF

NOAA: 306 Grant Program, CZMA

Clean Rivers-Clean Gulf Fund: Improve Stormwater and Wastewater Nutrient Removal Efficiency of new and existing wastewater treatment infrastructure. Also can finance agricultural practice improvements and wetland restoration.

Principal Programs

USEPA: CWSRF, Sec. 319 Grant program

USACE: Section 206 WRDA ’96, Aquatic Ecosystem Restoration; Section 204 WRDA ’92 Use of dredged material to protect, restore, and create aquatic and ecologically related habitats; Section 1135, WRDA ’86, Project Modifications for Improvement of the Environment; Specific General Investigations to address wetland restoration.

River Remediation Fund: A. Operate and Retrofit Corps Projects for Water Quality Improvements; and, B. Creation and Restoration of Riparian Buffers. Action will also provide habitat for waterfowl, fish, and wildlife.

To waive local cost share for retrofit to Corps projects since benefits of re-engineering are primarily realized basin-wide and in the Gulf. In appropriate areas Corps and USDA work with agriculture owners to create and restore buffers. In coastal wetlands Corps works with States, Tribes and local governments to implement river diversions to coastal wetlands.

Principal Programs

USACE: Section 212 WRDA '99 Flood Mitigation and Riverine Restoration Program; Section 206

WRDA '96, Aquatic Ecosystem Restoration; Section 204 WRDA '92 Use of dredged material to protect, restore, and create aquatic and ecologically related habitats; Section 1135, WRDA '86, Project Modifications for Improvement of the Environment; Specific General Investigations to address wetland restoration

USDA: CRP, EQIP, Extension Education

Watershed Partnership Investment Fund: Assessment & Targeting, State Strategy Formulation, Stakeholder Involvement, program management. Will strengthen state-level and tribal capacity to address Hypoxia and in-basin water quality problems.

Principal Programs

USEPA: Clean Water Grants to States and Tribes (sec. 106) for assessment, monitoring, TMDLs, Watershed Assistance Grants to Basin Associations, large Scale Demonstration program for innovative approaches

USACE: Section 729, WRDA '86, Study of Water Resources Needs of River Basins and Regions; Section 4, WRDA '00, Watershed and River Basin Assessments; Specific General Investigations at the watershed level

USDA: CSREES Water Quality Program

Hypoxia Adaptive Management Fund: Research, Monitoring and Modeling.

To refine targeting, improve efficiency of response actions, evaluate progress.

Principal Programs

NOAA: Research, assessment and monitoring in the Gulf of Mexico

USGS: Research, assessment and monitoring in the MS Basin

USEPA: Support for adaptive management process in collaboration with States, Tribes and Federal Agencies

USDA: Research on Improved Agricultural Practices

USACE: Modeling capabilities within existing research and development programs, and research on nutrient fate and nutrient cycling.

Hypoxia Remediation Innovation Fund: To fund large scale innovative projects.

Principal Programs

USEPA, USDA, and USACE: Research, development and demonstration projects

NOAA: Coastal research, development, and demonstration projects

Indicators of Success/Progress

Effective implementation of a management action plan to reduce the size and effect of the hypoxic zone in the Northern Gulf of Mexico and to improve water quality within the Mississippi and Atchafalaya River Basin will require a monitoring strategy that measures progress toward achieving both long-term and short-term goals. Feedback from such a monitoring strategy will facilitate an adaptive management framework that enables continual improvement of the action plan with increasing knowledge of the factors and processes controlling nutrient losses, their effects on water quality, and the effectiveness of management actions.

A multi-scale, multidisciplinary, and long-term monitoring strategy one of the key implementation actions above. The strategy must include measurement of indicators of progress in implementing management or programmatic actions, indicators of environmental response of water quality in the Mississippi and Atchafalaya River Basin and hypoxia in the Gulf of Mexico, and indicators of economic conditions that can be used to gauge the significance and implications of management actions. It must quantify environmental trends and differentiate among trends caused by changes in climate, streamflow, nutrient and landscape management measures, Gulf hydrodynamics, and other concurrent factors. Variables should be measured to quantify the physical, chemical, and biological processes that affect the cause-and-effect relationships between nutrient inputs and resulting environmental quality. The strategy must include periodic data analysis, interpretation, and reporting to all stakeholders that are involved with design and implementation of management, remediation, and restoration actions. Analysis and interpretations must use models that integrate knowledge across scales and hydrologic compartments from the smallest watershed to the Mississippi and Atchafalaya River Basin and the Gulf of Mexico.

A coordinated and supporting research strategy is integral to maintenance of an effective monitoring strategy and an adaptive management framework for action. Research efforts can be targeted on improving monitoring designs, improving the interpretation of monitoring output, and increasing the predictive power of models and other assessment tools used to design and evaluate management actions.

A baseline condition needs to be established for all indicators and the monitoring strategy in general to quantify the improvements associated with management action. The expected delay in the response of indicators to management actions, indicates that additional improvements in water quality will continue to be realized from actions that have already been implemented, as well as from future management actions. The CENR science assessment has provided a large-scale (Basin and Gulf scale) estimates of baseline conditions in the Mississippi and Atchafalaya River Basin (generally for the period 1980-96) and the Gulf of Mexico (generally for the period 1993-97). Additional information available from other sources at more local scales should be included in these definitions of baseline conditions. In addition, more recent information may be available to improve these baseline definitions. The 1997 Hypoxia Response Interagency Activity Report provides an initial listing of programs that could be evaluated for participation through programmatic indicators. Baseline conditions will need to be defined for these indicators.

Indicators that have been considered for the monitoring strategy are listed below. A more detailed and comprehensive evaluation of indicators will be conducted under Implementation Action #2.

Environmental Indicators

• Dissolved oxygen concentrations within the current hypoxic zone increase (above 2 mg/l) resulting in a reduction in the duration and spatial extent of the hypoxic zone. Data should provide resolution of the spatial extent and duration of the hypoxic zone.

• Seasonal/annual average nitrogen and phosphorus concentrations and mass loadings are reduced at key river and tributary stations. Measurement stations should represent watershed scales ranging from the local scales at which specific management actions are tested to the scale of the Mississippi and Atchafalaya River Basin as it discharges to the Gulf.

• Bottom-dwelling communities in the current hypoxic zone in the northern Gulf return to a diversity and abundance characteristic of non-hypoxic conditions and normal migratory patterns of key species are restored.

Programmatic Indicators

The following indicators will be tracked at various scales. In general, nonpoint sources will be tracked at 8 digit Hydrologic Unit Code (HUC) basins and point sources by discharge location or 8-digit HUC basin:

• Vegetative or forested buffers established along rivers and streams of priority watersheds

• Producer/acres enrolled in CRP and WRP

• Acres in conservation tillage

• Producers implementing nutrient management plans and the number of acres affected

• States with fully approved Coastal Nonpoint Pollution Control Programs. Percent population served by secondary treatment

• Percent population served by Advanced Waste Treatment/Biological Nutrient Removal

• Reduction in discharges of nitrogen and phosphorus for municipalities

• Number of municipal stormwater programs approved

• Estimated/monitored reductions in nitrogen and phosphorus (or surrogate indicators) for industrial point sources.

• Number of 303(d) water segments listed because of nutrient impairment

• Number and percent of wetland acres restored, enhanced or created

• Completion of TMDLs for nutrient impaired waters

• Number of States and Tribes within the Mississippi and Atchafalaya River Basin achieving Enhanced Benefits status under the 319 Program. Number of projects and amount of dollars directed through EQIP, CRP, WRP, and section 319 to target sub-basins within the Mississippi and Atchafalaya River Basin.

Economic Indicators

• Population

• Gross Domestic Product

• Industrial Output

• Land Area in Crop Production

• Agricultural Output in numbers of animals and bushels of commodity crop

Dated: July 5, 2000.
Robert Wayland,
Director, Office of Wetlands, Oceans, and Watersheds.

[FR Doc. 00-17354 Filed 7-10-00; 8:45 am]

BILLING CODE 6560-50-P